DEPARTMENT OF LABOR

Employment and Training Administration

Notice of Determinations Regarding Eligibility To Apply for Worker Adjustment Assistance and NAFTA Transitional Adjustment Assistance

In accordance with Section 223 of the Trade Act of 1974, as amended, the Department of Labor herein presents summaries of determinations regarding eligibility to apply for trade adjustment assistance for workers (TA-W) issued during the period of February, 2003.

In order for an affirmative determination to be made and a certification of eligibility to apply for worker adjustment assistance to be issued, each of the group eligibility requirements of Section 222 of the Act must be met.

(1) That a significant number or proportion of the workers in the workers' firm, or an appropriate subdivision thereof, have become totally or partially separated, or are threatened to become totally or partially separated; and

(2) That sales or production, or both, of the firm or sub-division have decreased absolutely, and

(3) That increases of imports of articles like or directly competitive with articles produced by the firm or appropriate subdivision have contributed importantly to the separations, or threat thereof, and to the absolute decline in sales or production of such firm or subdivision.

Negative Determinations for Worker Adjustment Assistance

In each of the following cases the investigation revealed that criterion (3) has not been met. A survey of customers indicated that increased imports did not contribute importantly to worker separations at the firm.

None.

In the following case, the investigation revealed that the criteria for eligibility have not been met for the reasons specified.

The investigation revealed that criterion (a)(2)(A)(I.C.) (Increased imports) and (a)(2)(B)(II.B) (No shift in production of a foreign country) have not been met.

TA-W-50,489; Corning, Inc., Photonic Technologies Div., Painted Post, NY

TA-W-50,403; Badger Pattern Works, Inc., New Berlin, WI

TA-W-50,379; B and D Resources, Robinson, IL

TA-W-50,256; E.J. Snyder and Co., Inc., Albemarle, NC

TA-W-50,292; Gorham/Lenox, Inc., Operations Div., Smithfield, RI

TA-W-50,297; Progressive Die and Automation, Grad Rapids, MI

The workers firm does not produce an article as required for certification under Section 222 of the Trade Act of 1974.

TA-W-50,406; Walkers Auto Electric, Vancouver, WA

Affirmative Determinations for Worker Adjustment Assistance

The following certifications have been issued; the date following the company name and location of each determination references the impact date for all workers of such determination.

TA-W-41,632; Tecknit, Inc., a Div. of TWP, Inc., Cranford, NJ: May 1, 2001.

The following certifications have been issued. The requirements of (a)(2)(A) (increased imports) of Section 222 have been met.

TA-W-50,918; Northfield Acquisition Co. d/b/a Sheldahl, Circuitry Assembly Department, Northfield, MN: February 13, 2002.

TA-W-50,120; Titanium Metals Corp., Also Known as Timet, Henderson, NV: November 12, 2001.

TA-W-50,527; Generation 2 Worldwide LLC, Dothan, AL: January 8, 2002.

TA-W-50,582; Wright Products Corp., Rice Lake, WI: January 16, 2001.

TA-W-50,599; Pacific Mountainsmith, LLC, Golden, CO: January 10, 2002.

TA-W-50,542; Wards Cove Packing Co., Seattle, WA and A; Alitak Cannery, Alitak, AK, B; Ekuk Cannery, Dillingham, AK, C; Excursion Inlet Plant Cannery, Excursion Inlet, AK, D; Red Salmon Cannery, Naknek, AK, E; South Naknek, AK, F; Wards Cove Cannery, Ketchikan, AK, G; E.C., Phillips & Son, Ketchikan, AK, H; Resurrection Bay Seafoods, Seward, AK, I; Egegik Fish Camp, Egegik, AK, J; E.C. Phillips & Son, Craig Operations, Ketchikan, AK, K; Haines Fish Camp, Haines, AK: January 10, 2002.

TA-W-50,617; BP Solar, LLC, Thin Film Manufacturing, Fairfield, CA: January 18, 2002.

TA-W-50,690; General Mills, Inc., Dennison Facility, Dennison, Texas: January 24, 2002.

TA—W-50,729; Rockshox, Inc., a Subsidiary of SRAM Corp., Including Leased Workers of Kelly Services, Colorado Springs, CO: December 20, 2001.

TA-W-50,805 &A; Bassett Furniture Industries, Inc., Macon, GA and Dublin, GA: February 4, 2002.

TA-W-50,813; General Binding Corp., GBC Films Group, DeForest, WI: January 31, 2002.

TA-W-50,872 & A; Leslie Fay Marketing, Inc., Laflin, PA and Pittston, PA: January 30, 2002.

The following certifications have been issued. The requirements of (a)(2)(B) (shift in production) of Section 222 have been met.

TA-W-50,881; Volex, Inc., Chula Vista Facility, Chula Vista, CA: February 4, 2002.

TA-W-50,335; Windless, Inc., Altoona, PA: December 2, 2001.

TA-W-50,545; Weavexx, Inc., Wake Forest Plant, Wake Forest, NC: January 7, 2002.

TA-W-50,591; Minnotte Machining Corp., Fairmont, WV: January 13, 2002.

TA-W-50,616; Mentor Component Technologies, Including Leased Workers at Kelly Services and Adecco, Montor, OH: January 10, 2002.

TA-W-50,632; Trans Air Manufacturing, Inc., Iowa Installation Facility, Mount Pleasant, IA: January 14, 2002.

Also, pursuant to Title V of the North American Free Trade Agreement Implementation Act (Pub. L. 103-182) concerning transitional adjustment assistance hereinafter called (NAFTA-TAA) and in accordance with Section 250(a), Subchaper D, Chapter 2, Title II, of the Trade Act as amended, the Department of Labor presents summaries of determinations regarding eligibility to apply for NAFTA-TAA issued during the month of February 2003.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

None.

Affirmative Determinations NAFTA-TAA

None.

I hereby certify that the aforementioned determinations were issued during the months of February 2003.

Copies of these determinations are available for inspection in Room C-5311, U.S. Department of Labor, 200 Constitution Avenue, NW., Washington, DC 20210 during normal business hours or will be mailed to persons who write to the above address.

Dated: February 28, 2003.
Edward A. Tomchick,
Director, Division of Trade Adjustment Assistance.

[FR Doc. 03-5556 Filed 3-7-03; 8:45 am]

BILLING CODE 4510-30-P